CORPORATION FOR NATIONAL AND COMMUNITY SERVICE

Notice of Availability of Application Guidelines and Technical Assistance Meeting for Potential Applicants for AmeriCorps*State Program Funds for the District of Columbia

AGENCY: Corporation for National and Community Service.

ACTION: Notice of availability of application guidelines and pre-application technical assistance meeting.

SUMMARY: Five hundred thousand dollars ($500,000) is available for new competitive AmeriCorps*State programs in the District of Columbia. Application guidelines are available for local government agencies, institutions of higher education, and public or private non-profit organizations in the District of Columbia interested in applying for these funds. The Corporation for National and Community Service has scheduled a meeting to provide technical assistance to eligible applicants.

FOR FUTHER INFORMATION CONTACT: For further information about the application guidelines or the technical assistance meeting, contact Betty Platt (202) 606-5000, ext. 422, or Carolyn Thompson, (202) 606-5000, ext. 260, T.D.D. (202) 565-2799. For individuals with disabilities, we will make information available in alternative formats upon request.

SUPPLEMENTARY INFORMATION: AmeriCorps is the national service program that engages Americans of all ages and backgrounds in meeting critical education, public safety, environmental, and other human needs. Each year, we provide funds to programs operated by non-profit organizations, local government agencies, and institutions of higher education to support projects such as tutoring children, restoring streams and parks, building playgrounds and housing, assisting elders, and serving in health clinics. For more information about the activities we support, visit our web site: www.nationalservice.org.

We have scheduled a technical assistance meeting regarding the application processes for AmeriCorps*State grants. The meeting will assist participants in understanding funding opportunities at the Corporation, provide tips on preparing a successful application for the 2000 AmeriCorps*State grant competition, and the framework objectives for an AmeriCorps program.

Technical Assistance Meeting

Date: March 9, 2000.

Time: 9:30-11:30 a.m.

Location: 1201 New York Avenue, NW, 8th Floor, Washington, DC 20525.

Obtaining a Copy of the Application

After February 25, 2000, you may pick up copies of the “AmeriCorps Application Guidelines for the District of Columbia” from the 8th Floor Receptionist at the Corporation for National Service, 1201 New York Avenue, N.W., or you may request copies by calling Carolyn Thompson at (202) 606-5000, ext. 260, T.D.D. (202) 565-2799, (allow ten days for mailing). The application will also be available in PDF format on the Corporation's web site: www.nationalservice.org.

Dated: February 15, 2000.
Peter Heinaru,
Director, AmeriCorps*State/National.

[FR Doc. 00-4077 Filed 2-18-00; 8:45 am]

BILLING CODE 6050-28-P